FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 20, 2000.

A. Federal Reserve Bank of Chicago (Phillip Jackson, Applications Officer) 230 South LaSalle Street, Chicago, Illinois 60690-1414:

1. John Mark DeCook, Pella, Iowa, and Martin “Bruce” Heerema, Pella, Iowa; each to retain voting shares of Vermeer Investment Company, Pella, Iowa, and thereby indirectly retain voting shares of Marion County State Bank, Pella, Iowa.

2. Raymond James Schirmer, and Robert Lawrence Foust, both of Strawberry Point, Iowa; to acquire additional voting shares of Munter Agency, Inc., Strawberry Point, Iowa, and thereby indirectly acquire additional voting shares of Union Bank and Trust Company, Strawberry Point, Iowa.

Board of Governors of the Federal Reserve System, October 2, 2000.
Robert deV. Frierson,
Associate Secretary of the Board.

[FR Doc. 00-25667 Filed 10-5-00; 8:45 am]

BILLING CODE 6210-01-P